FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 008657N.

Name: AACCO.

Address: 841 Pioneer Avenue, Wilmington, CA 90744.

Date Revoked: March 31, 2004.

Reason: Failed to maintain a valid bond.

License Number: 015429N.

Name: A.C.C. Logistics Ltd.

Address: 231 West 39th Street, Suite 729, New York, NY 10018.

Date Revoked: March 20, 2004.

Reason: Failed to maintain a valid bond.

License Number: 001752F.

Name: Amtonco Inc. dba Amton Shipping Company.

Address: 154-14 15th Avenue, Suite A, Beechhurst, NY 11357-2759.

Date Revoked: March 17, 2004.

Reason: Surrendered license voluntarily.

License Number: 14144N and 14144F.

Name: B & C Shipping Line Corporation.

Address: 1881 NW. 93rd Avenue, Miami, FL 33172.

Date: February 20, 2004. and March 19, 2004.

Reason: Failed to maintain valid bonds.

License Number: 016628NF.

Name: Beacon International Inc. dba Beacon Container Lines.

Address: 39 Beacon Street, Port Reading, NJ 07064.

Date Revoked: April 7, 2004.

Reason: Failed to maintain valid bonds.

License Number: 003716F.

Name: C J International, Inc.

Address: 405 Maclean Avenue, Suite 1, Louisville, KY 40209.

Date Revoked: April 7, 2004.

Reason: Failed to maintain a valid bond.

License Number: 017132N.

Name: Centroline, Inc.

Address: 469 W. 18th Street, Hialeah, FL 33010.

Date Revoked: March 22, 2004.

Reason: Failed to maintain a valid bond.

License Number: 004658F.

Name: Container Port Services, Inc.

Address: 1717 Turning Basin Drive, 310, Houston, TX 77029.

Date Revoked: April 7, 2004.

Reason: Failed to maintain a valid bond.

License Number: 014760N.

Name: Freight Express International, Inc.

Address: 2762 NW. 112th Avenue, Miami, FL 33172.

Date Revoked: March 31, 2004.

Reason: Failed to maintain a valid bond.

License Number: 016564F.

Name: Hexcorps Inc.

Address: 14730 Treborway Drive, Houston, TX 77014.

Date Revoked: March 31, 2004.

Reason: Surrendered license voluntarily.

License Number: 016624F.

Name: Interstar, Inc.

Address: 5839 Bender Road, Humble, TX 77396.

Date Revoked: March 22, 2004.

Reason: Failed to maintain a valid bond.

License Number: 017526N.

Name: Intertainer Line, Inc.

Address: 5839 Bender Road, Humble, TX 77396.

Date Revoked: March 22, 2004.

Reason: Failed to maintain a valid bond.

License Number: 014680N.

Name: MB Cargo, Inc.

Address: 7202 NW. 84th Avenue, Miami, FL 33166.

Date Revoked: March 31, 2004.

Reason: Surrendered license voluntarily.

License Number: 002045F.

Name: Ned Shipping Co., Inc.

Address: 5247 Wisconsin Avenue, NW., #3, Washington, DC 20015.

Date Revoked: April 3, 2004.

Reason: Failed to maintain a valid bond.

License Number: 10826F.

Name: Pacific Transit Services, Inc. dba PTS Container Line dba Sea Road New York.

Address: 147-29 182nd Street, Suite 202, Jamaica, NY 11413.

Date Revoked: March 5, 2004.

Reason: Surrendered license voluntarily.

License Number: 016907N.

Name: Principal Container Line Inc.

Address: 515 N. Sam Houston Parkway East, Suite 175, Houston, TX 77060.

Date Revoked: March 31, 2004.

Reason: Failed to maintain a valid bond.

License Number: 017866N.

Name: Swiftpak Inc.

Address: 17352 SW. 35th Street, Miramar, FL 33029.

Date Revoked: April 8, 2004.

Reason: Failed to maintain a valid bond.

License Number: 017193N.

Name: TMX Logistics, Inc.

Address: 8005 NW. 80th Street, Miami, FL 33166.

Date Revoked: April 7, 2004.

Reason: Failed to maintain a valid bond.

License Number: 007785N.

Name: Trinforwarding International, Inc. dba U.S. Atlantic Freight Lines.

Address: 7303 NW. 79th Street, Miami, FL 33166.

Date Revoked: April 28, 2003.

Reason: Failed to maintain a valid bond.

License Number: 012530N.

Name: U.S. National Lines, Inc.

Address: 87-23 167th Street, Jamaica, NY 11432.

Date Revoked: April 3, 2004.

Reason: Failed to maintain a valid bond.

Sandra L. Kusumoto,
Director, Bureau of Consumer Complaints and Licensing.

[FR Doc. 04-9025 Filed 4-20-04; 8:45 am]

BILLING CODE 6730-01-P